DEPARTMENT OF TRANSPORTATION

Federal Aviation Administration

14 CFR Part 39

[Docket No. FAA-2007-27346; Directorate Identifier 2007-NE-07-AD]

RIN 2120-AA64

Airworthiness Directives; 90XX and 92XX Sicma Aero Seat Passenger Seats

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Cracks have been found in central spreaders P/N 92-000100-200-1 or P/N 92-000101-200-1. This may heavily affect the structural integrity of the seat.

Failure of the central spreaders could result in injury to an occupant during emergency conditions. The proposed AD would require actions that are intended to address the unsafe condition described in the MCAI.

DATES: We must receive comments on this proposed AD by May 7, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Jeffrey Lee, Aerospace Engineer, Boston Aircraft Certification Office, FAA, Engine and Propeller Directorate; 12 New England Executive Park, Burlington, MA 01803; telephone 781-238-7161; fax 781-238-7170.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-27346; Directorate Identifier 2007-NE-07-AD” at the beginning of your comments. We specifically invite comments on the overall regulatory, economic, environmental, and energy aspects of this proposed AD. We will consider all comments received by the closing date and may amend this proposed AD based on those comments.

We will post all comments we receive, without change, to http://dms.dot.gov, including any personal information you provide. We will also post a report summarizing each substantive verbal contact we receive about this proposed AD.

Discussion

The Direction Generale De L'Aviation Civile (DGAC), which is the aviation authority for France, has issued French Airworthiness Directive 2002-504(AB), dated October 12, 2002, (referred to after this as “the MCAI”), to correct an unsafe condition for the specified products. The MCAI states:

Cracks have been found in central spreaders P/N 92-000100-200-1 or P/N 92-000101-200-1. This may heavily affect the structural integrity of the seat.

Failure of the central spreaders could result in injury to an occupant during emergency conditions.

You may obtain further information by examining the MCAI in the AD docket.

Relevant Service Information

Sicma Aero Seat has issued Service Bulletin (SB) 92-25-005, revision 3, dated January 17, 2003. The actions described in this service information are intended to correct the unsafe condition identified in the MCAI.

FAA's Determination and Requirements of This Proposed AD

This product has been approved by the aviation authority of another country, and is approved for operation in the United States. Pursuant to our bilateral agreement with this State of Design Authority, they have notified us of the unsafe condition described in the MCAI and service information referenced above. We are proposing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are described in a separate paragraph of the proposed AD. These requirements, if ultimately adopted, will take precedence over the actions copied from the MCAI.

Costs of Compliance

Based on the service information, we estimate that this proposed AD would affect about 3,283 products of U.S. registry. We also estimate that it would take about 6.017 work-hours per product to comply with this proposed AD. The average labor rate is $80 per work-hour. Required parts would cost about $206.75 per product. Where the service information lists required parts costs that are covered under warranty, we have assumed that there will be no charge for these costs. As we do not control warranty coverage for affected parties, some parties may incur costs higher than estimated here. Based on these figures, we estimate the cost of the proposed AD on U.S. operators to be $2,259,064.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Sicma Aero Seat: Docket No. FAA-2007-27346; Directorate Identifier 2007-NE-07-AD.

Comments Due Date

(a) We must receive comments by May 7, 2007.

Affected ADs

(b) None.

Applicability

(c) This AD applies to 90XX and 92XX Sicma Aero Seat passenger seats. These products are installed on, but not limited to, Aerospatiale ATR42 and ATR72 airplanes.

Reason

(d) Cracks have been found in central spreaders P/N 92-000100-200-1 or P/N 92-000101-200-1. This may heavily affect the structural integrity of the seat.

Failure of the central spreaders could result in injury to an occupant during emergency conditions.

Actions and Compliance

(e) Before 500 flight hours after the effective date of this AD, unless already done, do the following actions:

(1) Perform a visual inspection of central spreaders P/N 92-000100-200-1 or P/N 92-000101-200-1 of the affected seats using the Accomplishment Instructions “Checking Procedures” of Sicma Aero Seat Service Bulletin (SB) 92-25-005, revision 3, dated January 17, 2003. If no crack is found, repeat this inspection at intervals not exceeding 500 flight hours.

(2) Type 1, 2, and 3 cracks are defined in the Accomplishment Instructions “Checking Procedures” of Sicma Aero Seat SB 92-25-005, revision 3, dated January 17, 2003.

(i) If a type 1 crack is found, before 6 months or before 500 flight hours, whichever comes first, check the crack to determine that it did not enlarge to a type 2 or type 3 crack, install doublers P/N 00-6536, and record this modification by using Part One; B “Seat identification” of Sicma SB 92-25-005, revision 3, dated January 17, 2003.

(ii) If a type 2 or 3 crack is found, before further flight, replace the affected central spreader with a new one with the same part number, equipped with doublers P/N 00-6536.

(iii) If a new spreader is unavailable, do a temporary repair by installing doublers P/N 00-6536. This temporary repair may remain in place no longer than 500 flight hours or six months, whichever comes first. After removing the temporary repair, install a new spreader with the same part number equipped with doublers P/N 00-6536, and record this modification by following the instructions in paragraph Part Three; B “Seat identification” of Sicma SB 92-25-005, revision 3, dated January 17, 2003.

(3) If not already done, before March 31, 2010, install doublers P/N 00-6536 on central spreaders of affected seats. Record this modification by following instructions in Part Two; B “Seat identification” of Sicma SB 92-25-005, revision 3, dated January 17, 2003.

FAA AD Differences

(f) This AD differs from the DGAC mandatory continuing airworthiness information (MCAI) and/or service information in the terminating action date for installing doublers P/N 00-6536 on central spreaders of affected seats. The MCAI requires these doublers to be installed by December 31, 2005. This AD, written in 2007, requires the doublers to be installed by March 31, 2010.

Other FAA AD Provisions

(g) The following provisions also apply to this AD:

(1) Alternative Methods of Compliance (AMOCs): The Manager, Boston Aircraft Certification Office, FAA, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: None.

Related Information

(h) Refer to MCAI DGAC Airworthiness Directive 2002-504(AB), dated October 12, 2002, and Sicma Aero Seat Service Bulletin 92-25-005, revision 3, dated January 17, 2003, for related information.

(i) Contact Jeffrey Lee, Aerospace Engineer, Boston Aircraft Certification Office, FAA, Engine and Propeller Directorate; 12 New England Executive Park, Burlington, MA 01803; e-mail: Jeffery.lee@faa.gov; telephone 781-238-7161; fax 781-238-7170, for more information about this AD.

Issued in Burlington, Massachusetts, on April 2, 2007.
Peter A. White,
Acting Manager, Engine and Propeller Directorate, Aircraft Certification Service.

[FR Doc. E7-6478 Filed 4-5-07; 8:45 am]

BILLING CODE 4910-13-P